SECURITIES AND EXCHANGE COMMISSION

[SEC File No. 270-663, OMB Control No. 3235-0724]

For Submission; Comment Request

Upon Written Request Copies Available From: U.S. Securities and Exchange Commission, Office of FOIA Services, 100 F Street NE, Washington, DC 20549-2736

Extension:

Supplier Diversity Business Management System

Notice is hereby given that, pursuant to the Paperwork Reduction Act of 1995 (44 U.S.C. 3501 et seq.), the Securities and Exchange Commission (“Commission”) has submitted to the Office of Management and Budget (“OMB”) a request for extension of the previously approved collection of information summarized below.

The Commission is required under Section 342 of the Dodd-Frank Wall Street and Reform Act to develop standards and processes for ensuring the fair inclusion of women-owned and minority-owned businesses in all of the Commission's business activities. In addition, the Commission is required to develop standards for coordinating technical assistance to minority-owned and women-owned businesses. 12 U.S.C. 5452(b)(2)(B). To help implement these requirements, the Office of Minority and Women Inclusion (OMWI) developed and maintains an electronic Supplier Diversity Business Management System (SDBMS) to collect up-to-date business information and capabilities statements from diverse suppliers interested in doing business with the Commission. The information collected in SDBMS assists the Commission with its market research efforts, enables the Commission to assess the effectiveness of its technical assistance and outreach efforts and identify target areas for additional program efforts, and facilitates the Commission's compliance with its Congressionally-mandated reporting obligations on the Commission's contract awards.

The Commission invited comments on SDBMS. Information is collected in SDBMS via web-based, e-filed, dynamic form-based technology. The company point of contact completes a profile consisting of basic contact data and information on the capabilities of the business. The profile includes a series of questions, some of which are based on the data that the individual enters. Drop-down lists are included where appropriate to increase ease of use.

The information collection is voluntary. There are no costs associated with this collection. SDBMS allows suppliers to self-register via a secure web portal that is accessible through a hyperlink on the Commission's public website.

Estimated number of annual responses: 300.

Estimated annual reporting burden: 150 hours (30 minutes per submission).

Other than a recent decrease in the number of respondents, presumably due to the COVID-19 pandemic, the estimated number of respondents overall remains the same at 300 per year, based on the actual response rate prior to the pandemic. As such, the total burden estimate also remains the same at 150 hours.

On May 11, 2021, the Commission published a notice in the Federal Register (86 FR 25931) of its intention to request an extension of this currently approved collection of information, and allowed the public 60 days to submit comments. The Commission received no comments.

Written comments continued to be invited on: (a) Whether this collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

The public may view background documentation for this information collection at the following website: www.reginfo.gov. Find this particular information collection by selecting “Currently under 30-day Review—Open for Public Comments” or by using the search function. Written comments and recommendations for the proposed information collection should be sent within 30 days of publication of this notice to (i) www.reginfo.gov/public/do/PRAMain and (ii) David Bottom, Director/Chief Information Officer, Securities and Exchange Commission, c/o Cynthia Roscoe, 100 F Street NE, Washington, DC 20549, or by sending an email to: PRA_Mailbox@sec.gov. Comments must be submitted to OMB within 30 days of this notice.

Dated: July 15, 2021.
J. Matthew DeLesDernier,
Assistant Secretary.

[FR Doc. 2021-15428 Filed 7-20-21; 8:45 am]

BILLING CODE 8011-01-P